DEPARTMENT OF TRANSPORTATION

Federal Aviation Administration

Notice of Opportunity for Public Comment on Land Use Changes to Surplus Property at the Mobile Downtown Airport, Mobile, Alabama

AGENCY: Federal Aviation Administration, DOT.

ACTION: Notice of intent to rule on land use change request.

SUMMARY: Notice is being given that the FAA is considering a request from the Mobile Airport Authority to waive the requirement that 7.50 acres of airport property located at the Mobile Downtown Airport in Mobile, Alabama, be used for aeronautical purposes.

DATES: Comments must be received on or before August 1, 2019.

ADDRESSES: Comments on this notice may be mailed or delivered in triplicate to the FAA to the following address: Jackson Airports District Office, Attn: Graham Coffelt, Program Manager, 100 West Cross Street, Suite B, Jackson, MS 39208-2307.

In addition, one copy of any comments submitted to the FAA must be mailed or delivered to Mobile Airport Authority, Attn: Mr. Chris Curry, President, P.O. Box 880004, Mobile, AL 36608.

FOR FURTHER INFORMATION CONTACT: Graham Coffelt, Program Manager, Jackson Airports District Office, 100 West Cross Street, Suite B, Jackson, MS 39208-2307, (601) 664-9886. The land release request may be reviewed in person at this same location.

SUPPLEMENTARY INFORMATION: Under the provisions of Title 49, U.S.C. Section 47153(c). The FAA is reviewing a request by the Mobile Airport Authority to designate 7.50 acres of land for non-aeronautical use on the airport layout plan. The airport layout plan update, if approved as submitted, would change the use of 7.50 aces on the Mobile Downtown Airport from aeronautical to non-aeronautical. The property will be leased for Commercial Development. The location of the land relative to existing or anticipated aircraft noise contours greater than 65ldn are not considered to be an issue. The proceeds from the lease of this property will be used for airport purposes. The proposed use of this property is compatible with airport operations.

Any person may inspect the request in person at the FAA office listed above under FOR FURTHER INFORMATION CONTACT.

In addition, any person may, upon request, inspect the request, notice and other documents germane to the request in person at the Mobile Downtown Airport (BFM).

Issued in Jackson, Mississippi, on June 18, 2019.
Rans D. Black,
Manager, Jackson Airports District Office Southern Region.

[FR Doc. 2019-14135 Filed 7-1-19; 8:45 am]

BILLING CODE 4910-13-P